DEPARTMENT OF ENERGY

Federal Energy Regulatory Commission

[Docket No. PR07-14-000]

Bridgeline Holdings, L.P.; Notice of Deferral of Action on Petition for Rate Approval

August 16, 2007.

On August 2, 2007, Bridgeline Holdings, L.P. (Bridgeline) filed a motion for a sixty-day deferral of action on its Petition for Rate Approval filed on June 1, 2007, in the above-docketed proceeding. Bridgeline states that it intends to acquire by way of merger all interest and assets of Bridgeline Distribution and Bridgeline Storage on or about September 1, 2007. Because of these transactions, Bridgeline is requesting a sixty-day deferral of action on its petition for rate approval filed in Docket No. PR07-14-000 until the merger of these assets is complete. Bridgeline further states that on or about September 1, 2007, they will make the necessary filings to the Commission to facilitate this merger. At that time Bridgeline intends to withdraw the instant petition for rate approval in the above-docketed proceeding.

Upon consideration, notice is hereby given that a sixty-day deferral of action on its Petition for Rate Approval is granted to and including October 2, 2007.

Kimberly D. Bose,
Secretary.

[FR Doc. E7-16534 Filed 8-21-07; 8:45 am]

BILLING CODE 6717-01-P